DEPARTMENT OF ENERGY

Federal Energy Regulatory Commission

[Docket No. EF04-5101-000]

United States Department of Energy—Western Area Power Administration; Notice of Filing

April 27, 2004.

Take notice that on April 23, 2004, the Deputy Secretary of the Department of Energy, by Rate Order No. WAPA-111, did confirm and approve on an interim basis, to be effective on June 8, 2004, the Western Area Power Administration's (Western) firm power rate formula contained in Contract No. 7-07-50-P0890 (Contract) for Amistad and Falcon Projects.

The rate formula will be in effect on an interim basis pending the Federal Energy Regulatory Commission's (Commission) approval of it or a substitute rate on a final basis ending June 7, 2009.

Any person wanting to be heard or to protest said filing should file a motion to intervene or protest with the Commission, 888 First Street, NE., Washington, DC 20426, in accordance with Rules 211 and 214 of the Commission's Rules of Practice and Procedure (18 CFR 385.211 and 385.214). Protests will be considered by the Commission in determining the appropriate action to be taken but will not serve to make protestants parties to the proceeding. Any person wishing to become a party must file a motion to intervene. All such motions or protests should be filed on or before the comment date, and to the extent applicable, must be served on the applicant and on any other person designated on the official service list. Copies of this filing are on file with the Commission and are available for public inspection. This filing may also be viewed on the Internet at http://www.ferc.gov/docs-filing/elibrary.asp. For assistance contact the Commission Online Support at FERCOnlineSupport@ferc.gov or call toll-free at (866) 208-3676, or for TTY, contact (202) 502-8659. Protests and interventions may be filed electronically via the Internet in lieu of paper. See section 18 CFR 385.2001(a)(1)(iii) and the instruction on the Commission's Web site under the “e-filing” link.

Comment Date: May 24, 2004.

Magalie R. Salas,
Secretary.

[FR Doc. E4-983 Filed 4-30-04; 8:45 am]

BILLING CODE 6717-01-P